ENVIRONMENTAL PROTECTION AGENCY

[FRL-7174-7]

Clean Water Act Section 303(d): Availability of 11 Total Maximum Daily Loads (TMDLs) and Determinations That 4 TMDLs Are Not Needed

AGENCY: Environmental Protection Agency (EPA).

ACTION: Notice of availability.

SUMMARY: This notice announces the availability for comment of the administrative record file for 11 TMDLs and the calculations for these TMDLs prepared by EPA Region 6 for waters listed in the Calcasieu and Ouachita river basins, under section 303(d) of the Clean Water Act (CWA). These TMDLs were completed in response to the lawsuit styled Sierra Club, et al. versus Clifford et al., No. 96-0527, (E.D. La.).

This notice also announces the availability for comment of EPA determinations that TMDLs are not needed for 4 waterbody/pollutant combinations in the Calcasieu and Ouachita river basins because new data show that water quality standards are being met or a TMDL previously has been approved. This proposed action would result in the removal of 4 waterbody/pollutant combinations from the Louisiana 303(d) list.

DATES: Comments must be submitted in writing to EPA on or before May 22, 2002.

ADDRESSES: Comments on the 11 TMDLs and the determinations that TMDLs are not needed for 4 waterbody/pollutant combinations should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs and the determinations that TMDLs are not needed are available for public inspection at this address as well. Documents from the administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner. EPA proposes these TMDLs and determinations that TMDLs are not necessary pursuant to a consent decree entered in this lawsuit.

EPA Seeks Comments on 11 TMDLs

By this notice EPA is seeking comment on the following 11 TMDLs for waters located within the Calcasieu and Ouachita river basins:

Subsegment | Waterbody name | Pollutant
080401 | Bayou Bartholomew—Arkansas State Line to Dead Bayou (Lake Bartholomew) (Scenic) | Mercury.
080402 | Bayou Bartholomew—Dead Bayou (Lake Bartholomew) to Ouachita River | Mercury
080302 | Black River—Corps of Engineers Control Structure to Red River | Organic enrichment/low DO.
081602 | Little River—From Bear Creek to Catahoula Lake (Scenic) | Siltation.
080401 | Bayou Bartholomew—Arkansas State line to Dead Bayou (Lake Bartholomew) (Scenic) | Suspended solids.
080202 | Bayou Louis | Turbidity.
080401 | Bayou Bartholomew—Arkansas State line to Dead Bayou (Lake Bartholomew) (Scenic) | Turbidity.
081002 | Joe's Bayou—Headwaters to Bayou Macon | Turbidity.
081202 | Lake St. Joseph (Oxbow Lake) | Turbidity.
081601 | Little River—Confluence of Castor Creek and Dugdemona River to junction with Bear Creek (Scenic) | Turbidity.
081602 | Little River—From Bear Creek to Catahoula Lake (Scenic) | Turbidity.

EPA Seeks Comments on Proposed Determinations That TMDLs for 4 Waterbody/Pollutant Combinations are not Needed Due to Assessment of New Data that Show They are Meeting WQS or a TMDL previously has been Approved:

Subsegment | Waterbody name | Pollutant
030201 | Calcasieu River—Confluence with Marsh Bayou to Saltwater Barrier (Scenic) | Lead.
081401 | Dugdemona River—Headwaters to junction with Big Creek | Nutrients.
081401 | Dugdemona River—Headwaters to | Organic enrichment/low DO.
081503 | Beaucoup Creek—Headwaters to Castor Creek | Organic enrichment/low DO (TMDL previously established).

EPA requests that the public provide any water quality related data and information that may be relevant to the calculations for these 11 TMDLs and any comments relevant to the 4 determinations that TMDLs are not needed. EPA will review all data and information submitted during the public comment period and revise the TMDLs and determinations where appropriate. EPA will then forward the TMDLs to the Louisiana Department of Environmental Quality (LDEQ). LDEQ will incorporate the TMDLs into its current water quality management plan. EPA also will revise the Louisiana 303(d) list as appropriate.

Dated: April 15, 2002.
Oscar Ramirez, Jr.,
Acting Director, Water Quality Protection Division, Region 6.

[FR Doc. 02-9790 Filed 4-19-02; 8:45 am]

BILLING CODE 6560-50-P